FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012472-003.

Agreement Name: Yang Ming/COSCO Shipping Slot Exchange Agreement.

Parties: COSCO Shipping Lines Co. Ltd.; and Yang Ming Marie Transport Corp. and Yang Ming (UK) Ltd. (acting as a single party).

Filing Party: Robert Magovern; Cozen O'Connor.

Synopsis: The amendment revises Article 5 of the Agreement to update the respective services on which the parties will exchange space, effective April 1, 2019.

Proposed Effective Date: 3/13/2019.

Location: https://www2.fmc.gov/FMC.Agreements.Web/Public/AgreementHistory/1969.

Dated: March 15, 2019.
JoAnne D. O' Bryant,
Program Analyst.

[FR Doc. 2019-05301 Filed 3-19-19; 8:45 am]

BILLING CODE 6731-AA-P